ARMED FORCES RETIREMENT HOME

Notice of Availability of a Record of Decision

AGENCY: Armed Forces Retirement Home.

ACTION: Notice of availability of a Record of Decision on the Final Environmental Impact Statement for the proposed Master Plan for its campus located at 3700 North Capital Street, NW., in Washington, DC.

SUMMARY: Pursuant to the requirements of the National Environmental Policy Act of 1969 (NEPA), 42 U.S.C. 4321, et seq. and the Council on Environmental Quality Regulations (40 Code of Federal Regulations [CFR] Parts 1500-1508), the Armed Forces Retirement Home (AFRH) announces the availability of a Record of Decision on the Final Environmental Impact Statement for the proposed Master Plan for its campus located at 3700 North Capital Street, NW., in Washington, DC. On February 26, 2008, the Chief Operating Officer of the Armed Forces Retirement Home approved the Record of Decision for the Environmental Impact Statement for the proposed Master Plan for the AFRH-Washington campus. Specifically, AFRH has chosen to implement Alternative 3A (Selected Alternative) from the Final Environment Impact Statement for the creation of a master plan for AFRH-W that will sustain the AFRH and its primary source of funding, the AFRH Trust Fund. The Record of Decision (ROD) documents the specific components of AFRH's decision and the rationale for the decision. This decision is based on analyses contained in the Draft Environmental Impact Statement (EIS) issued in May 2005; the Final EIS issued in November 2007; the comments of Federal and state agencies, members of the public, and elected officials; and other information in the administrative record.

The decision to implement the Selected Alternative involved balancing resource concerns and public interests. AFRH reached its decision after careful consideration of the environmental analysis of the effects of the build alternatives and the no build alternative, in concert with its needs. The Selected Alternative includes key measures to avoid and minimize impacts including (1) Minimizing impacts to the historic components of AFRH-W including adaptive re-use of buildings which contribute to the historic character of the site and retention of key landscape features, such as the meadow on the southern portion of the site; (2) providing new construction that is compatible with surrounding land uses, including placement of retail and commercial development along North Capitol and Irving Streets, low scale residential development along Park Place, and institutional uses around the AFRH-W administrative and residential areas; (3) providing park and open space amenities for AFRH-W residents and the surrounding community; (4) providing affordable housing; and (5) providing commercial and retail opportunities to serve the surrounding community.

The Record of Decision includes a statement of the decision made, synopses of other alternatives considered, the basis for the decision, an overview of public involvement in the decision-making process, and identification of the specific mitigation measures that will pursued as of the selected alternative. This decision is the result of a public planning process that began in 2004. The official responsible for this decision is the Chief Operating Officer of the Armed Forces Retirement Home.

ADDRESSES: The Record of Decision and other information may be obtained from the contacts listed below, or may be viewed online at http://www.afrhdevelopment.com.

FOR FURTHER INFORMATION CONTACT: Joe Woo, AFRH, 3700 N. Capitol St, P.O. Box 1303, Washington, DC 20011-8400, (202) 202-730-3038, or Tim Sheckler, GSA, 301 7th Street, SW., Room 7709, Washington, DC 20407, (202)-401-5806.

Dated: February 29, 2008.
Timothy Cox,
Chief Operating Officer Armed Forces Retirement Home.

[FR Doc. E8-4639 Filed 3-7-08; 8:45 am]

BILLING CODE 8250-01-P